DEPARTMENT OF COMMERCE

Patent and Trademark Office

Submission for OMB Review; Comment Request

AGENCY: United States Patent and Trademark Office (USPTO).

The United States Patent and Trademark Office (USPTO) has submitted to the Office of Management and Budget (OMB) for clearance the following proposal for collection of information under the provisions of the Paperwork Reduction Act (44 U.S.C. Chapter 35).

Title: Trademark Processing (proposed addition of seven new TEAS Forms).

Form Number(s): PTO Forms 2194, 2195, 2196, 2197, 2200, 2201, and 2202. These forms will be added to those that are currently approved for this collection: PTO Form 4.8, 4.9, 4.16, 1478, 1478(a), 1553, 1581, 1583, 1963, 2000, and PTO/TM/4.16 and 1583.

Agency Approval Number: 0651-0009.

Type of Request: Revision of a currently approved collection.

Burden: 154,483 hours.

Number of Respondents: 762,701 responses.

Avg. Hours Per Response: Approximately 3 to 12 minutes, depending on the form. The USPTO estimates that it takes approximately 3 minutes (0.05 hours) to complete the requests for deletion of the § 1(b) basis from an intent to use application, the change of owner's address form, and the express abandonment of the application and submit them electronically through the Trademark Electronic Application System (TEAS). The USPTO estimates that it takes approximately 5 minutes (0.08 hours) to complete the petitions to revive and the revocation and appointment of attorneys, and 12 minutes (0.20 hours) to complete the withdrawals as the attorney of record and submit them electronically through TEAS. The USPTO estimates that it takes 6 minutes (0.10 hours) to complete the revocation and appointment of attorney, and 12 minutes (0.20 hours) to complete the petitions to revive and mail them to the USPTO. This includes the time to gather the necessary information, prepare the petitions, requests, and other associated forms, and submit them to the USPTO.

Needs and Uses: The USPTO is developing seven forms that will allow applicants to submit certain petitions, requests, revocations, and change of address forms electronically through TEAS. When the USPTO deploys these forms, applicants will be able to petition the USPTO to revive an abandoned application; to appoint or revoke a power of attorney; to request that the USPTO delete a § 1(b) filing basis from an intent to use application; to request permission to withdraw as the attorney of record; and to request the withdrawal of an application. Applicants and registrants will also be able to change their address. The USPTO uses the information submitted electronically through these forms to revive abandoned applications, to process appointments, revocations, and withdrawals of attorneys and applications, to amend the filing basis for an intent to use application, and to change owners' addresses at their request. Use of these forms ensures that the USPTO receives all of the information needed to process the trademark applications electronically through TEAS. These forms will be added to those currently approved under OMB Control Number 0651-0009 Trademark Processing.

Affected Public: Business or other for-profit, individuals or households, not-for-profit institutions, farms, Federal Government, and State, local, or tribal government.

Frequency: On occasion.

Respondent's Obligation: Required to obtain or retain benefits.

OMB Desk Officer: David Rostker, (202) 395-3897.

Copies of the above information collection proposal can be obtained by any of the following methods:

• E-mail: Susan.Brown@uspto.gov. Include “0651-0009 Trademark Processing (Addition of Seven New TEAS Forms) copy request” in the subject line of the message.

• Fax: 703-308-7407, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before November 4, 2004 to David Rostker, OMB Desk Officer, Room 10202, New Executive Office Building, 725 17th Street NW., Washington, DC 20503.

Dated: September 29, 2004.
Susan K. Brown,
Records Officer, USPTO, Office of Data Architecture and Services, Data Administration Division.

[FR Doc. 04-22345 Filed 10-4-04; 8:45 am]

BILLING CODE 3510-16-P